CENTRAL INTELLIGENCE AGENCY

Privacy Act of 1974; Systems of Records and Routine Uses

AGENCY: Central Intelligence Agency.

ACTION: Notice of complete reorganization and revision of Privacy Act systems of records notices and the modification and addition of routine uses as defined in 5 U.S.C. 552a(a)(7).

SUMMARY: The Central Intelligence Agency has undertaken and completed an Agency-wide review of its Privacy Act systems of records. As a result of this review, the Agency is publishing a complete set of revised Privacy Act systems of records notices. The Agency has also modified one of its existing routine uses and added seven new routine uses to its “Statement of General Routine Uses” for information subject to the Privacy Act. As required by the Privacy Act, the Agency is providing an opportunity for interested persons to submit comments on these notices and routine uses.

DATES: Submit comments to the Central Intelligence Agency on or before July 5, 2005. These revisions will be effective on that date unless comments received result in changes to the Agency's notices or routine uses.

ADDRESSES: Submit comments in writing to the Chief of Information Management Services, Central Intelligence Agency, Washington, DC 20505, or by fax to 703-613-3007.

FOR FURTHER INFORMATION CONTACT: Scott A. Koch, Information and Privacy Coordinator, Central Intelligence Agency, Washington, DC 20505 or by telephone, 703-613-1287.

SUPPLEMENTARY INFORMATION: The Central Intelligence Agency has undertaken and completed a zero-based, Agency-wide review of its Privacy Act systems of records. As a result of this review, the Agency determined that its Privacy Act notices required extensive modifications to more accurately describe the records systems currently maintained by the Agency. Rather than making numerous, piecemeal revisions, the Agency decided to draft and republish updated notices for all of its Privacy Act systems of records. By doing so, the Agency hopes to make these notices as clear and accessible to the public as possible. The modified notices reflect several factors: the consolidation of records systems resulting from advances in information technology; the elimination of records systems no longer in use; the combination of previously separate records systems that serve a common purpose and are under common control; the addition of notices for records systems not previously identified as being subject to the Privacy Act; and the addition of notices for newly-created records systems.

In addition, the Agency has modified one of its existing routine uses and added seven new routine uses to its “Statement of General Routine Uses.” The modification and addition of the routine uses will clarify and increase the public's knowledge of the circumstances in which the Central Intelligence Agency may disclose information from Privacy Act systems of records. The ability to make the disclosures described in the new routine uses will enhance the Agency's ability to share information essential to the conduct of its national security mission. With the exception of the modification to Routine Use 4 and the addition of Routine Uses 8 through 14, all other provisions of the Agency's published “Statement of General Routine Uses” remain unchanged.

Nothing in the revised systems notices or modified or new routine uses indicates any change in the Central Intelligence Agency's authorities or practices regarding the collection and maintenance of information about citizens and lawful permanent residents of the United States, nor do the changes impact any individual's rights to access or to amend their records pursuant to the Privacy Act.

Edmund Cohen,
Chief of Information Management Services.

Central Intelligence Agency

Modification and Additions to the Statement of General Routine Uses for the Central Intelligence Agency

Consistent with the Privacy Act's requirements, the Central Intelligence Agency has modified one of its existing general routine uses and has added seven additional routine uses. The modified routine use and the additional routine uses described below, apply to, and are incorporated by reference into, each Privacy Act system of records maintained by the Central Intelligence Agency. With the exception of the modification to Routine Use 4 and the addition of Routine Uses 8 through 14 described below, all other provisions of the Agency's published “Statement of General Routine Uses” remain unchanged.

Routine Use 4 is amended to read:

4. A record from a system of records maintained by the Central Intelligence Agency may be disclosed, as a routine use, in the course of presenting information or evidence to a court, magistrate, special master, administrative law judge, or administrative board or panel, including disclosures made pursuant to statutes or regulations governing the conduct of such proceedings.

Routine Uses 8 through 14 are added:

8. A record from a system of records maintained by the Central Intelligence Agency may be disclosed, as a routine use, to a Member of Congress or Congressional staffer in response to an inquiry from that Member of Congress or Congressional staffer made at the written request of the constituent who is the subject of the record.

9. A record from a system of records maintained by the Central Intelligence Agency may be disclosed, as a routine use, to the public or to the media for release to the public, to enable the Agency to respond to charges of illegal or improper activity, professional misconduct, or incompetence when such allegations have become publicly known, and the General Counsel determines that such disclosures are necessary to preserve public confidence in the Agency and the integrity of its processes, or to demonstrate the accountability of the Agency and its employees.

10. A record from a system of records maintained by the Central Intelligence Agency may be disclosed, as a routine use, to any Federal agency when documents or other information obtained from that agency are used in compiling the record, and the record is relevant to the official responsibilities of that agency.

11. A record from a system of records maintained by the Central Intelligence Agency may be disclosed, as a routine use, to representatives of the Department of Justice or of any other entity responsible for representing the interests of the Central Intelligence Agency in connection with judicial, administrative or other proceedings. Records may also be disclosed to representatives of the Department of Justice and other U.S. Government entities, to the extent necessary to obtain their advice on any matter within their official responsibilities. Records may also be disclosed to representatives of private entities designated by the Central Intelligence Agency to represent Agency interests, to the extent necessary for the Central Intelligence Agency to obtain advice on any matter.

12. A record from a system of records maintained by the Central Intelligence Agency may be disclosed, as a routine use, to individual Members or staff of the Senate Select Committee on Intelligence and the House Permanent Select Committee on Intelligence in connection with the exercise of the Committees' intelligence oversight and legislative functions, when such disclosures are necessary to a lawful activity of the United States, and the General Counsel of the Central Intelligence Agency determines that such disclosures are otherwise lawful.

13. A record from a system of records maintained by the Central Intelligence Agency may be disclosed, as a routine use, to the President's Foreign Intelligence Advisory Board, the Intelligence Oversight Board, any successor organizations, and any intelligence oversight entities established by the President, when the head of the Central Intelligence Agency determines that disclosure will assist these entities in the performance of their oversight functions.

14. In the event that none of the routine uses listed above is applicable, a record from a system of records maintained by the Central Intelligence Agency may be disclosed, as a routine use, to other appropriate recipients, if such dissemination is necessary to a lawful activity of the United States, and the General Counsel of the Central Intelligence Agency, in consultation with the Department of Justice, determines that such dissemination is lawful.

Privacy Act Systems of Records Notices

CIA-1

System name:

Financial Records.

Security classification:

The classification of records in this system can range from UNCLASSIFIED to TOP SECRET.

System location:

Central Intelligence Agency, Washington, DC 20505.

Categories of individuals covered by the system:

Current and former CIA staff and contract employees, and military and civilian personnel detailed to CIA; and personal services independent contractors, industrial contractors, commercial vendors, and consultants to the CIA.

Categories of records in the system:

This system contains financial accounts and records concerning CIA expenditures. This includes: records relating to financial transactions associated with commercial vendors and contracts; official travel orders, records of funds advanced and transportation furnished, copies of travel claims and accountings, visas, and passports; records concerning claims submitted for financial review, including all financial documentation accumulated in the collection and settlement of amounts due the agency from employees and former employees; records tracking general accounting data, including the status of funds advanced to individuals for official purposes and the procurement of materials and services; records on certifying officers, contracting officers, cash custodians and credit card holders, including authorizing letters and signature cards; and records for the processing of personal property claims and related activity.

Authority for maintenance of the system:

The National Security Act of 1947, as amended (50 U.S.C. 403 et seq.); the Central Intelligence Agency Act of 1949, as amended (50 U.S.C. 403a et seq.); Executive Order 12333 (46 FR 59941); the Central Intelligence Agency Retirement Act (50 U.S.C. 2001 et seq.).

Purpose(s):

Records in this system are used by authorized personnel to: E nsure process integrity; enable the CIA and the head of the CIA to carry out their lawful and authorized responsibilities; provide accounting data to track items such as budget and expenses to allow the CIA to acquire goods and services and provide an accounting infrastructure; travel services; and financial management expertise for fiscal resource utilization and control; and determine whether the commitment and expenditure of CIA funds is authorized, approved, and certified by officials to whom such authority has been delegated.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in secured areas within the CIA. Electronic records are stored in secure file-servers located within the CIA.

Retrievability:

By name, social security number, or other CIA identifier. Information may be retrieved from this system of records by utomated or hand search based on extant indices and automated capabilities used in the normal course of business. Under applicable law and regulations, all searches of this system of records will be performed in CIA offices by CIA personnel.

Safeguards:

Records are stored in secured area within the CIA accessed only by authorized persons. Software access controls are also in place.

Retention and disposal:

All records are maintained and disposed of in accordance with Records Control Schedules approved by the National Archives and Records Administration.

System manager(s) and address (this incorporates by reference any CIA successor in function to the system manager(s) set forth herein):

Chief Financial Officer, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals to whom records in this system pertain, and other CIA employees.

Exemptions claimed for the system:

Certain records contained within this system of records may be exempted from certain provisions of the Privacy Act (5 U.S.C. 552a) pursuant to 5 U.S.C. 552a(j)(1), (k), and (d)(5).

CIA-2

System name:

Training Records.

Security classification:

The classification of records in this system can range from UNCLASSIFIED to TOP SECRET.

System location:

Central Intelligence Agency, Washington, DC 20505.

Categories of individuals covered by the system:

CIA staff and contract employees, other federal employees, CIA personal services independent contractors and industrial contractors to CIA who have completed internal and CIA-sponsored external training courses or programs; and instructors and potential instructors for the CIA off-campus education program.

Categories of records in the system:

Transcripts of CIA-sponsored training; student and instructor biographic data; course information; and names of CIA employees responsible for approving CIA-sponsored training.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; manage training activities for individuals assigned to the CIA; process requests for internal and external training for CIA staff and contract employees, personal services independent contractors, industrial contractors and military and civilian personnel detailed to CIA; update and provide reference for CIA employee training records; and facilitate the process for selecting instructors for the CIA off-campus education program.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in secured areas within the CIA. Electronic records are stored in secure file-servers located within the CIA.

Retrievability:

By name and employee number. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief, Training and Development Office, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system; students and instructors in CIA internal and CIA-sponsored external training; and training facilities and other educational institutions.

Exemptions claimed for the system:

Certain records contained within this system of records may be exempted from certain provisions of the Privacy Act (5 U.S.C. 552a) pursuant to 5 U.S.C. 552a(j)(1), (k), and (d)(5).

CIA-3

System name:

Language Program Records.

Security classification:

The classification of records in this system can range from UNCLASSIFIED to TOP SECRET.

System location:

Central Intelligence Agency, Washington, DC 20505.

Categories of individuals covered by the system:

CIA staff and contract employees, and other individuals who have participated in CIA-managed or CIA-sponsored language training and testing.

Categories of records in the system:

Biographic data; test scores; training reports from instructors; training requests from sponsoring office(s); and attendance reports.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; provide information concerning language proficiency of CIA and non-CIA personnel who have taken internal or CIA-sponsored external language training or testing; monitor student performance; and conduct research and compile statistics on a variety of matters related to language learning and testing.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file-servers located within the CIA.

Retrievability:

By name or social security number. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief, Training and Development Office, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Students and instructors in CIA internal or CIA-sponsored external language training courses.

Exemptions claimed for the system:

Certain records contained within this system of records may be exempted from certain provisions of the Privacy Act (5 U.S.C. 552a) pursuant to 5 U.S.C. 552a(j)(1), (k), and (d)(5).

CIA-4

System name:

CIA Declassification Center (CDC) External Liaison Records.

Security classification:

The classification of records in this system can range from UNCLASSIFIED to CONFIDENTIAL.

System location:

Central Intelligence Agency, Washington, DC 20505.

Categories of individuals covered by the system:

Individuals at U.S. government agencies who serve as points of contact for dealings with the CDC External Referral & Liaison Branch.

Categories of records in the system:

Biographic information including name, social security number, position, title/rank, and expertise; locator information including telephone numbers, fax numbers, and addresses (primary, e-mail and pouch); and information related to security clearances and access approvals, including clearances held, current status of clearances, and period of certification.

Authority for maintenance of the system:

The National Security Act of 1947, as amended (50 U.S.C. 403 et seq.); the Central Intelligence Agency Act of 1949, as amended (50 U.S.C. 403a et seq.); Executive Order 12958 (76 FR 19825).

Purposes(s):

Records in this system are used by authorized personnel to: Ensure process integrity; enable the CIA and the head of the CIA to carry out their lawful and authorized responsibilities; and maintain a current list of points of contact at U.S. government agencies on EO 12958 declassification issues.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Records are stored in secure file servers located within the CIA.

Retrievability:

By name, social security number, and agency. Information may be retrieved from this system of records by automated search based on capabilities utilized in the normal course of business. Under applicable law and regulations, all searches of this system of records will be performed in CIA offices by CIA personnel.

Safeguards:

Access is restricted to individuals who are certified on an access control list. Additional software access controls are also in place.

Retention and disposal:

All records are maintained and disposed of in accordance with records control schedules approved by the National Archives and Records Administration.

System managers(s) and address (this incorporates by reference any CIA successor in function to the system manager(s) set forth herein):

Chief, External Referral & Liaison Branch/CIA Declassification Center, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.1-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system, and points of contact provided by U.S. government agencies.

Exemptions claimed for the system:

Certain records contained within this system of records may be exempted from certain provisions of the Privacy Act (5 U.S.C. 552a) pursuant to 5 U.S.C. 552a(j)(1), (k), and (d)(5).

CIA-5

System name:

Center for the Study of Intelligence (CSI) Records.

Security classification:

The classification of records in this system can range from UNCLASSIFIED to TOP SECRET.

System location:

Central Intelligence Agency, Washington, DC 20505.

Categories of individuals covered by the system:

Current and former CIA staff and contract employees, personal services independent contractors to CIA, and current and former employees detailed to the CIA who have participated in an “oral history” program.

Categories of records in the system:

Names, biographic data and the content of information provided by individuals who have participated in CSI's “oral history” program, or worked with CSI.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; and record experiences of current and former CIA associates for use in CSI projects.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Director, Center for the Study of Intelligence, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system; and CIA records.

Exemptions claimed for the system:

Certain records contained within this system of records may be exempted from certain provisions of the Privacy Act (5 U.S.C. 552a) pursuant to 5 U.S.C. 552a(j)(1), (k), and (d)(5).

CIA-6

System name:

Manuscript Review Records.

Security classification:

The classification of records in this system can range from UNCLASSIFIED to TOP SECRET.

System location:

Central Intelligence Agency, Washington, DC 20505.

Categories of individuals covered by the system:

Current and former CIA employees; other authors obligated to submit writings or oral presentations for pre-publication review; and individuals otherwise involved in pre-publication review matters with CIA.

Categories of records in the system:

Manuscripts and other writings submitted for pre-publication review; Publication Review Board meeting minutes, official memoranda, bibliographic files and related documents; and Publication Review Board Reference Center documentation.

Authority for maintenance of the system:

The National Security Act of 1947, as amended (50 U.S.C. 403 et seq.); the Central Intelligence Agency Act of 1949, as amended (50 U.S.C. 403a et seq.); Executive Order 12333 (46 FR 59941); Executive Order 12958 (76 FR 19825); Executive Order 12968 (60 FR 40245); Snepp v. United States, 444 U.S. 507 (1980).

Purpose(s):

Records in this system are used by authorized personnel to: Ensure process integrity; to enable the CIA and the head of the CIA to carry out their lawful and authorized responsibilities; as references for manuscripts, meeting minutes, official memoranda, bibliographic files and related documents which have been submitted for review in compliance with applicable regulations; and to facilitate review of new manuscript submissions of proposed publications or speeches authored or given by present or former employees.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file-servers located within the CIA.

Retrievability:

By name. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chair, Publications Review Board, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Current and former CIA employees and other obligated authors; Publication Review Boards members and staff; and other CIA personnel involved in the publications review process.

Exemptions claimed for the system:

Certain records contained within this system of records may be exempted from certain provisions of the Privacy Act (5 U.S.C. 552a) pursuant to 5 U.S.C. 552a(j)(1), (k), and (d)(5).

CIA-7

System name:

Security Access Records.

Security classification:

The classification of records in this system can range from UNCLASSIFIED to TOP SECRET.

System location:

Central Intelligence Agency, Washington, DC 20505.

Categories of individuals covered by the system:

CIA employees and other individuals authorized to access CIA buildings and facilities.

Categories of records in the system:

Personal identification information; building and entrance information; entry or exit data and codes; and credential information.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; verify individuals' authorization to access CIA buildings and facilities; create a record of individuals' access to CIA buildings and facilities; facilitate the issuance and retrieval of visitor and temporary badges; and provide statistical data on building and facility access patterns for resource planning purposes.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in a secured area within the CIA. Electronic records are stored in secure file-servers located within the CIA.

Retrievability:

By name, social security number, or other CIA identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Director of Security, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

CIA badge system; after-hours building and facility logs; visitor-no-escort badge record cards; and permits and identification sources.

Exemptions claimed for the system:

Certain records contained within this system of records may be exempted from certain provisions of the Privacy Act (5 U.S.C. 552a) pursuant to 5 U.S.C. 552a(j)(1), (k), and (d)(5).

CIA-8

System name:

Security Operations Records.

Security classification:

The classification of records in this system can range from UNCLASSIFIED to TOP SECRET.

System location:

Central Intelligence Agency, Washington, DC 20505.

Categories of individuals covered by the system:

Individuals, including CIA employees, who have contacted or been referred to the CIA's Security Operations Center; individuals, including CIA employees, who have been responsible for or suspected of security incidents, or have witnessed, reported, or investigated security incidents involving CIA information, and/or CIA-controlled property or facilities; individuals who have had restrictions imposed upon their entrance to CIA-controlled property or facilities; and individuals involved in traffic violations on CIA-controlled property or facilities.

Categories of records in the system:

Personal identification and event information that includes: biographic information, including name, social security number, and CIA identification information; information on security-related incidents occurring on CIA-controlled property or facilities, including date and place of incidents, subject matter or incident description, arrests and violation information, including court disposition and vehicular information where appropriate.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; track events, individuals, and groups of individuals that may pose a threat to the CIA; assist CIA security officials in identifying present and future threats to CIA-controlled property or facilities and CIA personnel; track traffic violations, security incidents, and access control issues; serve as a statistical and management reporting tool; and facilitate court cases or other legal proceedings.

Routine uses of records maintained in the system, including categories of users and the purposes of such uses:

Reports regarding accidents and traffic violations may be provided to the individuals involved and their insurance companies to facilitate the resolution of claims. Information on additional routine uses is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file-servers located within the CIA.

Retrievability:

By name or other personal identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Director of Security, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system of records; members of the general public; CIA employees; and employees of other federal agencies and state and local governments.

Exemptions claimed for the system:

Certain records contained within this system of records may be exempted from certain provisions of the Privacy Act (5 U.S.C. 552a) pursuant to 5 U.S.C. 552a(j)(1), (k), and (d)(5).

CIA-9

System name:

Industrial Security Clearance Records.

Security classification:

The classification of records in this system can range from UNCLASSIFIED to TOP SECRET.

System location:

Central Intelligence Agency, Washington, DC 20505.

Categories of individuals covered by the system:

Industrial contractors and commercial vendors; and persons in the private sector associated with the CIA who hold industrial security clearances.

Categories of records in the system:

Biographic data, including name, address, position, and social security number; and security clearance information.

Authority for maintenance of the system:

The National Security Act of 1947, as amended (50 U.S.C. 403 et seq.); the Central Intelligence Agency Act of 1949, as amended (50 U.S.C. 403a et seq.); Executive Order 12333 (46 FR 59941); Executive Order 10450 (5 U.S.C. 7311 note); Executive Order 12958 (78 FR 19825); and Executive Order 12968 (60 FR 40245).

Purpose(s):

Records in this system are used by authorized personnel to: Ensure process integrity; enable the CIA and the head of the CIA to carry out their lawful and authorized responsibilities; document security clearance(s) held by industrial contractors, commercial vendors, and persons in the private sector associated with the CIA; and provide a reference to answer inquiries on security clearances.

Routine uses of records maintained in the system, including categories of users and the purposes of such uses:

Records in this system are used to certify clearances of individuals covered by the system. Information on additional routine uses is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file-servers located within the CIA.

Retrievability:

By individual or company name, and social security number. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Procurement Executive, Office of the Chief Financial Officer, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals who hold or have held security clearances and the organizations with which they are employed or otherwise associated; and certification of clearance from the Center for CIA Security.

Exemptions claimed for the system:

Certain records contained within this system of records may be exempted from certain provisions of the Privacy Act (5 U.S.C. 552a) pursuant to 5 U.S.C. 552a(j)(1), (k), and (d)(5).

CIA-10

System name:

Parking Records.

Security classification:

The classification of records in this system can range from UNCLASSIFIED to CONFIDENTIAL.

System location:

Central Intelligence Agency, Washington, DC 20505.

Categories of individuals covered by the system:

CIA employees and any other individuals requiring parking permits at CIA-controlled facilities.

Categories of records in the system:

Name, office location, grade, badge number, vehicle license number, personal identifying information and relevant medical information of individuals covered in this system.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; and document the allocation and control of parking spaces at CIA-controlled facilities.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file-servers located within the CIA.

Retrievability:

By name, and vehicle license number. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief of Global Support, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

CIA employees and other individuals requiring parking permits at CIA-controlled facilities.

Exemptions claimed for the system:

Certain records contained within this system of records may be exempted from certain provisions of the Privacy Act (5 U.S.C. 552a) pursuant to 5 U.S.C. 552a(j)(1), (k), and (d)(5).

CIA-11

System name:

Accountable Property Records.

Security classification:

The classification of records in this system can range from UNCLASSIFIED to TOP SECRET.

System location:

Central Intelligence Agency, Washington, DC 20505.

Categories of individuals covered by the system:

CIA staff and contract employees; personal services independent contractors; industrial contractors; military and civilian personnel detailed to CIA; and other individuals who possess CIA accountable property.

Categories of records in the system:

Name, signature and office location of individuals covered by this system; and description of accountable property charged to individuals covered by this system.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; document accountability for CIA nonexpendable property; and track, inventory, audit, and report on accountable property.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file-servers located within the CIA.

Retrievability:

By name. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief of Global Support, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals concerned with accountable property, and accountable property officers.

Exemptions claimed for the system:

Certain records contained within this system of records may be exempted from certain provisions of the Privacy Act (5 U.S.C. 552a) pursuant to 5 U.S.C. 552a(j)(1), (k), and (d)(5).

CIA-12

System name:

Vehicle Operator Records.

Security classification:

The classification of records in this system can range from UNCLASSIFIED to TOP SECRET.

System location:

Central Intelligence Agency, Washington, DC 20505.

Categories of individuals covered by the system:

CIA staff and contract employees, personal services independent contractors, or industrial contractors who have licenses to drive buses, trucks, and other specialty vehicles as part of their official CIA employment duties.

Categories of records in the system:

Biographic data on employees; medical qualification forms; driver test data; registers of permits issued; and accident report records.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; document CIA staff and contract employees who are qualified to drive buses, trucks, and other specialty vehicles in the course of their CIA employment duties; and issue official U.S. Government driver's licenses and renewals.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in secured area within the CIA. Electronic records are stored in secure file servers located within the CIA.

Retrievability:

By name or driver's permit number. Information may be retrieved from this system of records by automated or hand search based on extant indices and automated capabilities used in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief, Transportation Support, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

CIA staff and contract employees, personal services independent contractors, and industrial contractors; and federal, state and local law enforcement agencies as their records relate to competency testing and accident reporting.

Exemptions claimed for the system:

Certain records contained within this system of records may be exempted from certain provisions of the Privacy Act (5 U.S.C. 552a) pursuant to 5 U.S.C. 552a(j)(1), (k), and (d)(5).

CIA-13

System name:

Component Human Resources Records.

Security classification:

The classification of records in this system can range from UNCLASSIFIED to TOP SECRET.

System location:

Central Intelligence Agency, Washington, DC 20505.

Categories of individuals covered by the system:

Current and former CIA staff and contract employees; military and civilian personnel detailed or assigned to the CIA; applicants for employment with the CIA; current and former employees of industrial contractors; and current and former independent contractors.

Categories of records in the system:

Memoranda, correspondence and other documents, including personnel soft files and supervisors' working files maintained by Agency offices and components, concerning individuals covered by this system on matters involving: performance appraisals; travel, financial, retirement and claims information; time and attendance, including leave information; performance, conduct, and suitability; education, certification, training, and testing; special qualifications or restrictions; dependency and residence; emergency notifications; medical information, including disabilities and job-related injuries; biographic data; skills assessment data; locator information; cables and dispatches of administrative and operational significance; employee grievances, including equal employment opportunity complaints; employee evaluation panel files; and employee awards.

Authority for maintenance of the system:

The National Security Act of 1947, as amended (50 U.S.C. 403 et seq.); the Central Intelligence Agency Act of 1949, as amended (50 U.S.C. 403a et seq.); Executive Order 12333 (46 FR 59941); the Central Intelligence Agency Retirement Act (50 U.S.C. 2001 et seq.).

Purpose(s):

Records are created, maintained and used by human resource management officials, supervisory personnel, and other authorized personnel at all levels of the organization on a need-to-know basis. These records, including supervisors' working files, EEO and grievance files, and suitability files, are used to: Ensure process integrity; enable the CIA and the head of the CIA to carry out their lawful and authorized responsibilities; supplement official personnel folders (“soft files”); facilitate and expedite processing or procedural requirements related to employee transactions; provide reference to monitor, record, and perform personnel management functions including employee counseling, employee evaluation, assignment, promotion, authorization of training, awards and leave; and provide management with statistical reporting.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in a secured area located in premises controlled by the head of the CIA. Electronic records are stored in secure file-servers located in premises controlled by the head of the CIA.

Retrievability:

By name, social security number, CIA employee number, or other personal identifiers. Information may be retrieved from this system of records by automated or hand search based on extant indices and automated capabilities utilized in the normal course of business.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Component: | Manager:
Office of the Executive Director | Executive Director
Directorate of Intelligence | DI Information Management Officer
Directorate of Operations | Chief, DO Human Resources Staff
Directorate of Science & Technology | Chief, DS&T Administrative Resources
Office of the Chief Financial Officer | Chief Financial Officer
Office of the Chief Information Officer | Chief Information Officer
Office of Global Support | Chief of Global Support
Office of Human Resources | Chief Human Resources Officer
Office of Security | Director of Security
National Intelligence Council | Chairman, National Intelligence Council
Office of Congressional Affairs | Director of Congressional Affairs
Office of the DDCI for Community Management | Executive Director for IC Affairs
Office of General Counsel | General Counsel
Office of Inspector General | Inspector General
Office of Public Affairs | Director of Public Affairs
Additional DCI Area Components: | DCI Information Management Officer

Address: Central Intelligence Agency, Washington, DC 20505

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by the system; educational institutions and private organizations; CIA employees; and other federal agencies.

Exemptions claimed for the system:

Certain records contained within this system of records may be exempted from certain provisions of the Privacy Act (5 U.S.C. 552a) pursuant to 5 U.S.C. 552a(j)(1), (k), and (d)(5).

CIA-14

System name:

Information Release Records.

Security classification:

The classification of records in this system can range from UNCLASSIFIED to TOP SECRET.

System location:

Central Intelligence Agency, Washington, DC 20505.

Categories of individuals covered by the system:

Individuals who make information release requests to CIA under provisions of the Freedom of Information Act (FOIA), Privacy Act (PA), and Executive Order 12958 (EO); individuals who make special search requests and other related individuals; and individuals who are the subject of FOIA/PA/EO and special search requests and other related individuals.

Categories of records in the system:

FOIA/PA/EO requests and processing files including correspondence and supporting documents; documents responsive to FOIA/PA/EO and special search requests; duplicate files maintained by Directorate Information Review Officers (IROs) and component focal points; weekly reports of FOIA/PA/EO case activity and status; and indices related to special searches.

Authority for maintenance of the system:

The National Security Act of 1947, as amended (50 U.S.C. 403 et seq.); the Central Intelligence Agency Act of 1949, as amended (50 U.S.C. 403a et seq.); Executive Order 12333 (46 FR 59941); Executive Order 12958 (76 FR 19825); the Freedom of Information Act (5 U.S.C. 552); the Privacy Act (5 U.S.C. 552a); the President John F. Kennedy Assassination Records Collection Act of 1992 (44 U.S.C. 2107 note); the Nazi War Crimes Disclosure Act (5 U.S.C. 552 note); the Japanese Imperial Government Records Disclosure Act (5 U.S.C. 552 note).

Purpose(s):

Records in this system are used by authorized personnel to: Ensure process integrity; enable the CIA and the head of the CIA to carry out their lawful and authorized responsibilities; support the review, redaction, and release of CIA records pursuant to federal statutes and Executive Orders; formulate responses to FOIA/PA/EO and special search requests; provide reference in processing cases under administrative appeal and civil litigation; provide documentation for referral to other federal agencies for their review pursuant to Executive Order 12958, and the third agency rule; and generate external reports as required by federal statutes and internal reports for use by CIA officials.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in secured areas within the CIA. Electronic records are stored in secure file-servers located within the CIA.

Retrievability:

By name, case number, and full text search. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief of Information Management Services, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals who make FOIA/PA/EO and special search requests, and related individuals; and CIA components that provide information in response to FOIA/PA/EO and special search requests.

Exemptions claimed for the system:

Certain records contained within this system of records may be exempted from certain provisions of the Privacy Act (5 U.S.C. 552a) pursuant to 5 U.S.C. 552a(j)(1), (k), and (d)(5).

CIA-15

System name:

Guest Speaker Records.

Security classification:

The classification of records in this system can range from UNCLASSIFIED to TOP SECRET.

System location:

Central Intelligence Agency, Washington, DC 20505.

Categories of individuals covered by the system:

Individuals under consideration for guest speaker engagements, training courses and other presentations; such individuals may include members of the academic and business world as well as present and former senior CIA and other government officials.

Categories of records in the system:

Biographic data including academic credentials; publicly available information, including publications authored by the potential speaker; correspondence; and administrative records.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; to enable the CIA and the head of the CIA to carry out their lawful and authorized responsibilities; and for curriculum development and selection of speakers for training courses and special presentations. Biographic data may be used as part of the official file for personal services contracts.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file servers located within the CIA.

Retrievability:

By name. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief Information Officer, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system; CIA employees; academic institutions and private organizations; libraries and commercial databases; and federal agencies.

Exemptions claimed for the system:

Certain records contained within this system of records may be exempted from certain provisions of the Privacy Act (5 U.S.C. 552a) pursuant to 5 U.S.C. 552a(j)(1), (k), and (d)(5).

CIA-16

System name:

Employee Clinical and Psychiatric Records.

Security classification:

The classification of records in this system can range from UNCLASSIFIED to TOP SECRET.

System location:

Central Intelligence Agency, Washington, DC 20505.

Categories of individuals covered by the system:

CIA staff and contract employees and their dependents; military and civilian employees detailed to CIA and their dependents; retired or separated CIA employees and their dependents; and physicians who provide services to any of the categories of individuals listed above.

Categories of records in the system:

Physical examinations; laboratory data; X-rays; private physician reports; reports of on-the-job injuries and illnesses; results of psychiatric screening and testing; reports of psychiatric interviews; records of immunizations; records on individuals covered by this system receiving Agency counseling; other medical material relating to environmental health, safety training, and preventative medicine; and biographic information on physicians covered by this system of records.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; to enable the CIA and the head of the CIA to carry out their lawful and authorized responsibilities; to maintain a complete and accurate medical record of all CIA employees, their dependents, military and civilian employees detailed to CIA, and retired or separated employees; to respond to requirements relating to safety and environmental issues and to CIA safety and environmental compliance training; to evaluate suitability for assignment, travel, fitness-for-duty, health maintenance and in reviewing applications for medical disability retirement; to track the safety and health status of CIA employees, components, sites, and operations; and to refer individuals for specialty medical assistance.

Routine uses of records maintained in the system, including categories of users and the purposes of such uses:

A record from this system of records may be disclosed, as a routine use, to the Office of Personnel Management in the case of an employee who applies for medical disability, and to the Department of Labor in the case of an employee who applies for Worker's Compensation benefits. Information on additional routine uses is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file-servers located within the CIA.

Retrievability:

By name, chart number, or other identifying information. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief, Medical Services Office, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals supply their medical history; physicians supply their biographic information; and additional sources may include routine medical processing and reports from private physicians or medical facilities when written permission is granted by the individual.

Exemptions claimed for the system:

Certain records contained within this system of records may be exempted from certain provisions of the Privacy Act (5 U.S.C. 552a) pursuant to 5 U.S.C. 552a(j)(1), (k), and (d)(5).

CIA-17

System name:

Applicant Clinical and Psychiatric Records.

Security classification:

The classification of records in this system can range from UNCLASSIFIED to TOP SECRET.

System location:

Central Intelligence Agency, Washington, DC 20505.

Categories of individuals covered by the system:

Applicants for employment with CIA

Categories of records in the system:

Physical examinations and related medical material; laboratory data; results of psychiatric screening and testing; and reports of psychiatric interviews.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; to enable the CIA and the head of the CIA to carry out their lawful and authorized responsibilities; to maintain a complete and accurate medical file on all individuals applying for CIA employment; to evaluate the medical suitability of applicants; to serve as a basis for the Employee Clinical and Psychiatric Record once an applicant is hired by the CIA; and to generate statistical reports on applicants.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file-servers located within the CIA.

Retrievability:

By name, chart number, or other identifying information. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief, Medical Services Office, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Applicants who supply their medical history; additional sources may include routine medical processing and reports from private physicians or medical facilities when written permission is granted by the applicant.

Exemptions claimed for the system:

Certain records contained within this system of records may be exempted from certain provisions of the Privacy Act (5 U.S.C. 552a) pursuant to 5 U.S.C. 552a(j)(1), (k), and (d)(5).

CIA-18

System name:

Psychological Testing Data Records.

Security classification:

The classification of records in this system can range from UNCLASSIFIED to TOP SECRET.

System location:

Central Intelligence Agency, Washington, DC 20505.

Categories of individuals covered by the system:

Applicants for employment with the CIA; CIA staff or contract employees and their dependents; military and civilian personnel detailed to the CIA; and retired or separated CIA staff or contract employees and their dependents.

Categories of records in the system:

Psychological testing records and assessment reports.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; to enable the CIA and the head of the CIA to carry out their lawful and authorized responsibilities; to track individual test results which aid CIA management and advisory personnel, who have a need-to-know, in decision making; to produce research reports of aggregate data for appropriate officials and components of the CIA; and to examine the relationship between test scores and other variables of interest such as job performance.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in a secured area within the CIA. Electronic records are stored in secure file-servers located within the CIA.

Retrievability:

By name, or other identifying information. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief, Medical Services Office, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals who have completed a variety of psychological tests and interview sessions with CIA medical officers; and individuals involved in the assessment of test data.

Exemptions claimed for the system:

Certain records contained within this system of records may be exempted from certain provisions of the Privacy Act (5 U.S.C. 552a) pursuant to 5 U.S.C. 552a(j)(1), (k), and (d)(5).

CIA-19

System name:

Agency Human Resources Records.

Security classification:

The classification of records in this system can range from UNCLASSIFIED to TOP SECRET.

System location:

Central Intelligence Agency, Washington, DC 20505.

Categories of individuals covered by the system:

Current and former CIA staff and contract employees; military and civilian personnel detailed to the CIA; personal services independent contractors; applicants in process for CIA employment; candidates for CIA awards; participants, and beneficiaries designated by deceased CIA employees who were participants, in the CIA's authorized retirement systems and retirement savings programs; and certain OSS veterans.

Categories of records in the system:

Biographic data including records on education, military service data, insurance, medical and retirement status and locator information on individuals covered by this system; employment information including records on applicant tracking, job matching, seasonal and cooperative employment programs, and information on those separating from CIA employment; personnel information including records on employment history, leave, time and attendance, fitness and performance appraisal reports, awards, travel, training, job injury, worker's compensation records and security clearance information; CIA personnel information including records on position and job title information, qualifications and skills assessments, authorized personnel staffing data, levels, and patterns; financial information relating to payroll and authorized retirement and retirement savings accounts, including authorized or required payroll deductions or contributions for federal, state and local taxes, other tax documentation, and retirement, insurance and leave entitlements; banking instructions for dissemination of salary paychecks; contracts relating to contract employees and independent contractors; and financial disclosure forms submitted pursuant to the Ethics in Government Act.

Authority for maintenance of the system:

The National Security Act of 1947, as amended (50 U.S.C. 403 et seq.); the Central Intelligence Agency Act of 1949, as amended (50 U.S.C. 403a et seq.); Executive Order 12333 (46 FR 59941); the Central Intelligence Agency Retirement Act (50 U.S.C. 2001 et seq.).

Purpose(s):

To serve as the central human resources management system for the CIA. Records in this system are used by authorized personnel to: Ensure process integrity; enable the CIA and the head of the CIA to carry out their lawful and authorized responsibilities; perform centralized personnel functions such as employment, separation of employment, payroll, position and personnel staffing, and general employee transactions; support the general administration of systems dependent on personnel data such as insurance, medical and health care, and retirement and retirement savings; compute salary, attendance, leave, benefits and entitlements for payroll and its dependent systems including insurance, medical and health care, and authorized retirement and retirement savings systems; track applicant and employee biographic and demographic data for use in employee location tracking, and statistical reports; compile statistical reports for CIA management on strength, distribution and utilization of staffing, average grades and salaries, minorities, projected retirements, profiles of CIA skills and qualifications, comparative rates on promotions, separations, new employees, reasons for separations; provide information and statistics for heads of Career Services to assist them in administering their career development and evaluation programs, including promotion rates and headroom, performance appraisal report ratings, qualifications, changes in their Career Services; assess staffing patterns, grade and salary data for office heads required for staffing and budget projections; provide information and statistics for components responsible for administering recruitment, hospitalization, insurance, and authorized retirement and retirement savings programs; and provide records of employee transactions to responsible CIA officials and to the employees themselves.

Routine uses of records maintained in the system, including categories of users and the purposes of such uses:

Information from this system concerning CIA retirees is routinely disseminated to the Office of Personnel Management. Information concerning work-related injuries of CIA employees is routinely provided to the Department of Labor in connection with Worker's Compensation claims. Information on additional routine uses is set forth in the “CIA Statement of General Routine Uses,” which is incorporated herein by reference.

Disclosure to consumer reporting agencies:

None.

Policies and practices for storing, retrieving, accessing, retaining, and disposing of records in the system:

Storage:

Paper records are stored in secured areas within the CIA. Electronic records are stored in secure file-servers located within the CIA.

Retrievability:

By name, social security number, CIA employee number, or other personal identifiers. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief Human Resources Officer, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system; educational institutions; physicians and medical practitioners; CIA employees; and other federal agencies.

Exemptions claimed for the system:

Certain records contained within this system of records may be exempted from certain provisions of the Privacy Act (5 U.S.C. 552a) pursuant to 5 U.S.C. 552a(j)(1), (k), and (d)(5).

CIA-20

System name:

Official Personnel Files.

Security classification:

The classification of records in this system can range from UNCLASSIFIED to TOP SECRET.

System location:

Central Intelligence Agency, Washington, DC 20505.

Categories of individuals covered by the system:

Current and former CIA staff and contract employees; and military and civilian personnel detailed to the CIA.

Categories of records in the system:

Personal and employment history statements; employment contracts; personnel actions; performance appraisal reports; awards and commendations; biographic profiles and data; retirement status and exit processing information; training and travel records; correspondence; and photographs.

Authority for maintenance of the system:

The National Security Act of 1947, as amended (50 U.S.C. 403 et seq.); the Central Intelligence Agency Act of 1949, as amended (50 U.S.C. 403a et seq.); Executive Order 12333 (46 FR 59941); the Central Intelligence Agency Retirement Act (50 U.S.C. 2001 et seq.).

Purpose(s):

Records in this system are used by human resource management personnel and other authorized personnel to: Ensure process integrity; enable the CIA and the head of the CIA to carry out their lawful and authorized responsibilities; administer routine personnel transactions including: personnel assignments; performance evaluations; promotions; adverse actions; counseling; retirement determinations of qualifications; separations; medical or insurance claims; and statistical reports; decide on the rights, benefits, entitlements and utilization of CIA employees; provide a data source for production of summary descriptive statistics and analytical studies related to human resource management issues; support resource metrics; locate specific individuals for personnel research or other personnel management functions; and verify employment.

Routine uses of records maintained in the system, including categories of users and the purposes of such uses:

Information from this system of records may be transmitted to another U.S. Government agency relative to employment considerations by that agency, and to the Office of Personnel Management (OPM) relative to OPM's administration of retirement benefits for individuals covered by this system. Information on additional routine uses is set forth in the “CIA Statement of General Routine Uses,” which is incorporated herein by reference.

Disclosure to consumer reporting agencies:

None.

Policies and practices for storing, retrieving, accessing, retaining, and disposing of records in the system:

Storage:

Paper records are stored in secured area(s) within the CIA. Electronic records are stored in secure file-servers located with the CIA.

Retrievability:

By name, social security number, or other personal identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief Human Resources Officer, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system; educational institutions and private organizations; physicians and medical practitioners; CIA employees; and other federal agencies.

Exemptions claimed for the system:

Certain records contained within this system of records may be exempted from certain provisions of the Privacy Act (5 U.S.C. 552a) pursuant to 5 U.S.C. 552a(j)(1), (k), and (d)(5).

CIA-21

System name:

Applicant Records.

Security classification:

The classification of records in this system can range from UNCLASSIFIED to TOP SECRET.

System location:

Central Intelligence Agency, Washington, DC 20505.

Categories of individuals covered by the system:

Applicants for employment with the CIA.

Categories of records in the system:

Records concerning the applicant, including: biographic data; medical and employment history statements; educational transcripts; and personal references, and records relating to employment processing, including: interview reports; test results; correspondence; review comments; and general processing records.

Authority for maintenance of the system:

The National Security Act of 1947, as amended (50 U.S.C. 403 et seq.); the Central Intelligence Agency Act of 1949, as amended (50 U.S.C. 403a et seq.); Executive Order 12333 (46 FR 59941).

Purpose(s):

Records are used by CIA human resources management officials and other authorized personnel to: Ensure process integrity; to enable the CIA and the head of the CIA to carry out their lawful and authorized responsibilities; to review an applicant's qualifications; for security background investigations; for suitability determinations; for medical screening; and to determine whether employment with the CIA will be offered.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper records are stored in secured areas within the CIA. Electronic records are stored in secure file-servers located within the CIA.

Retrievability:

By name, social security number, or other personal identifiers. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief, Recruitment Center, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

CIA applicants; applicant references; educational institutions and private organizations; physicians and medical practitioners; CIA employees; and other federal agencies.

Exemptions claimed for the system:

Certain records contained within this system of records may be exempted from certain provisions of the Privacy Act (5 U.S.C. 552a) pursuant to 5 U.S.C. 552a(j)(1), (k), and (d)(5).

CIA-22

System name:

Personnel Security Records.

Security classification:

The classification of records in this system can range from UNCLASSIFIED to TOP SECRET.

System location:

Central Intelligence Agency, Washington, DC 20505.

Categories of individuals covered by the system:

Current and former applicants for CIA employment; CIA staff and contract employees; personal services independent contractors and industrial contractors; military and civilian personnel detailed to the CIA; individuals of security interest to CIA; persons of, or contemplated for, substantive affiliation with, or service to, the CIA; persons on whom the CIA has conducted or is conducting an investigation; and federal, civilian, and military personnel with whom the CIA conducts liaison.

Categories of records in the system:

Biographic data (including name, sex, date and place of birth, social security number, and completed security questionnaires); authorizations for the release of financial, travel, employment, housing, educational, and other information; summaries or reports of information obtained from other CIA records such as personnel, medical, or counterintelligence records; financial disclosure forms submitted by CIA personnel; travel data on individuals covered by this system; correspondence pertaining to an individual's suitability for CIA assignment or affiliation, and the individual's security eligibility for access to classified information, projects, or facilities; investigative reports, investigative information, and data pertaining to actual or purported compromises of classified or otherwise protected information; appraisals that summarize investigative results and provide the decision or rationale for determining whether an individual should receive access to classified information, projects, or facilities, or is suitable for CIA affiliation or assignment; documentation of, or relating to, interim or final actions relating to issues of security, discipline, or the grant, denial, suspension, or revocation of a CIA security clearance, access approval, or security approval; and secrecy agreements executed by individuals covered by this system.

Authority for maintenance of the system:

The National Security Act of 1947, as amended (50 U.S.C. 403 et seq.); the Central Intelligence Agency Act of 1949, as amended (50 U.S.C. 403a et seq.); Executive Order 12333 (46 FR 59941); Executive Order 10450 (5 U.S.C. 7311 note); Executive Order 12958 (76 FR 19825); and Executive Order 12968 (60 FR 40245).

Purpose(s):

Records in this system are used by authorized personnel to: Ensure process integrity; enable the CIA and the head of the CIA to carry out their lawful and authorized responsibilities; to document personnel security and suitability decisions; assist with security eligibility determinations and employment or assignment suitability decisions in accordance with applicable statutes, Executive Orders, Director of Central Intelligence Directives, CIA regulations, and other applicable law; record information regarding security eligibility determinations and employment or assignment suitability decisions concerning individuals who are under consideration for affiliation or continued affiliation with the CIA, or access or continued access to classified or otherwise protected CIA information, projects, or facilities; verify individual security clearances or access approvals; and record information relevant to investigations into possible violations of CIA rules and regulations, including the possible loss or compromise of classified or protected CIA information.

Routine uses of records maintained in the system, including categories of users and the purposes of such uses:

Records in this system are used to provide information, including biographic information and records of security breaches, to other federal agencies involved in national security matters in the following circumstances: to respond to national agency checks; to certify security clearances and access approvals; and to provide information relevant to espionage investigations. Information on additional routine uses is set forth in the “CIA Statement of General Routine Uses,” which is incorporated herein by reference.

Disclosure to consumer reporting agencies:

None.

Policies and practices for storing, retrieving, accessing, retaining, and disposing of records in the system:

Storage:

Paper and other hard-copy records are stored in a secured area within the CIA. Electronic records are stored in secure file-servers located within the CIA.

Retrievability:

By name, social security number, or other CIA identifier. Information may be retrieved from this system of records by automated or hand search based on extant indices and automated capabilities utilized in the normal course of business. Under applicable law and regulations, all searches of this system of records will be performed in CIA offices by CIA personnel.

Safeguards:

Records are safeguarded by combination lock security containers, or are stored within a vaulted area. Access is restricted to individuals who are certified on an “Access List.” The Access List is validated at least annually and circulated to responsible Agency officials so that they can ensure that records are accessed only for official purposes.

Retention and disposal:

All records are maintained and disposed of in accordance with Records Control Schedules approved by the National Archives and Records Administration.

System manager(s) and address (this incorporates by reference any CIA successor in function to the system manager(s) set forth herein):

Director of Security, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system of records; personal and business references provided by the individual or developed during the course of an investigation; educational institutions and private organizations; federal, state, and local government entities; public sources such as newspapers and periodicals, consumer reporting agencies, financial, travel, educational, employment-related, and other commercial sources; and classified and unclassified reporting on investigations and investigative materials.

Exemptions claimed for the system:

Certain records contained within this system of records may be exempted from certain provisions of the Privacy Act (5 U.S.C. 552a) pursuant to 5 U.S.C. 552a(j)(1), (k), and (d)(5).

CIA-23

System name:

Intelligence Community Security Clearance and Access Approval Repository.

Security classification:

The classification of records in this system can range from UNCLASSIFIED to TOP SECRET.

System location:

Central Intelligence Agency, Washington, DC 20505.

Categories of individuals covered by the system:

U.S. government employees, military personnel, personal services independent contractors and industrial contractors to U.S government programs who possess security clearances and security access approvals.

Categories of records in the system:

Biographic data (including name, date and place of birth, social security number, and employer); and information relating to security clearances and security access approvals, including clearances and access approvals held, current status of clearances and access approvals, and date of background investigation.

Authority for maintenance of the system:

The National Security Act of 1947, as amended (50 U.S.C. 403 et seq.); the Central Intelligence Agency Act of 1949, as amended (50 U.S.C. 403a et seq.); Executive Order 12333 (46 FR 59941); Executive Order 10450 (5 U.S.C. 7311 note); Executive Order 12958 (76 FR 19825); and Executive Order 12968 (60 FR 40245).

Purpose(s):

Records in this system are used by authorized personnel to: Ensure process integrity; enable the CIA and the head of the CIA to carry out their lawful and authorized responsibilities; and to verify individual security clearances or security access approvals throughout the Intelligence Community in order to control access to classified and compartmented materials.

Routine uses of records maintained in the system, including categories of users and the purposes of such uses:

Records in this system are provided to Intelligence Community agencies and relevant government contractors to certify individuals' security clearances and access approvals. Information on additional routine uses is set forth in the “CIA Statement of General Routine Uses,” which is incorporated herein by reference.

Disclosure to consumer reporting agencies:

None.

Policies and practices for storing, retrieving, accessing, retaining, and disposing of records in the system:

Storage:

Paper and other hard-copy records are stored in secured areas controlled by the head of the CIA. Electronic records are stored in secure file-servers located in premises controlled by the head of the CIA.

Retrievability:

By name or social security number. Information may be retrieved from this system of records by automated or hand search based on extant indices and automated capabilities utilized in the normal course of business.

Safeguards:

Records and servers are stored within a vaulted area. Access is restricted to individuals with appropriate clearances and a “need to know,” as certified by an Access Control List.

Retention and disposal:

All records are maintained and disposed of in accordance with Records Control Schedules approved by the National Archives and Records Administration.

System manager(s) and address (this incorporates by reference any CIA successor in function to the system manager(s) set forth herein):

Director of Security, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system of records; U.S. government agencies; and current and former employers of individuals covered by this system of records, including both government and private sector organizations.

Exemptions claimed for the system:

Certain records contained within this system of records may be exempted from certain provisions of the Privacy Act (5 U.S.C. 552a) pursuant to 5 U.S.C. 552a(j)(1), (k), and (d)(5).

CIA-24

System name:

Polygraph Records.

Security classification:

The classification of records in this system can range from UNCLASSIFIED to TOP SECRET.

System location:

Central Intelligence Agency, Washington, DC 20505.

Categories of individuals covered by the system:

Current and former applicants for CIA employment; CIA staff and contract employees; personal services independent contractors and industrial contractors; military and civilian personnel detailed to the CIA; individuals of security interest to CIA; persons of, or contemplated for, substantive affiliation with, or service to, the CIA; and persons on whom the CIA has conducted or is conducting an investigation.

Categories of records in the system:

Polygraph reports; polygraph charts; polygraph tapes; and notes from polygraph interviews or activities related to polygraph interviews.

Authority for maintenance of the system:

The National Security Act of 1947, as amended (50 U.S.C. 403 et seq.); the Central Intelligence Agency Act of 1949, as amended (50 U.S.C. 403a et seq.); Executive Order 12333 (46 FR 59941); Executive Order 10450 (5 U.S.C. 7311 note); Executive Order 12958 (76 FR 19825); Executive Order 12968 (60 FR 40245).

Purpose(s):

Records in this system are used by authorized personnel to: Ensure process integrity; enable the CIA and the head of the CIA to carry out their lawful and authorized responsibilities; document polygraph results; assist with security eligibility determinations and employment or assignment suitability decisions in accordance with applicable statutes, Executive Orders, Director of Central Intelligence Directives, CIA regulations, and other applicable law; and to assist with investigations into possible violations of CIA rules and regulations, including the possible loss or compromise of classified or protected CIA information.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in a secured area within the CIA. Electronic records are stored in secure file-servers located within the CIA.

Retrievability:

By name, social security number, or other CIA identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Director of Security, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system of records.

Exemptions claimed for the system:

Certain records contained within this system of records may be exempted from certain provisions of the Privacy Act (5 U.S.C. 552a) pursuant to 5 U.S.C. 552a(j)(1), (k), and (d)(5).

CIA-25

System name:

Office of the Director Action Center Records.

Security classification:

The classification of records in this system can range from UNCLASSIFIED to TOP SECRET.

System location:

Central Intelligence Agency, Washington, DC 20505.

Categories of individuals covered by the system:

Individuals who send correspondence to, or receive correspondence from, the Office of the Director; and individuals who are the subject of correspondence to or from the Office of the Director.

Categories of records in the system:

Correspondence and documents addressed to, received by, or originated in the Office of the Director concerning: matters of policy, operations, and security within the purview of the head of the CIA; Congressional inquiries; and inquiries from the members of the general public.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; document the activities and policy decisions of the head of the CIA; and serve as reference material for business areas within the purview of the Office of the Director.

Routine uses of records maintained in the system, including categories of users and the purposes of such uses:

Correspondence contained in this system of records may be provided to U.S. Government agencies, other than the CIA, when it is determined that such other agencies can more appropriately handle the matters addressed in the correspondence. Information on additional routine uses is set forth in the “CIA Statement of General Routine Uses,” which is incorporated herein by reference.

Disclosure to consumer reporting agencies:

None.

Policies and practices for storing, retrieving, accessing, retaining, and disposing of records in the system:

Storage:

Paper records are stored in secured areas within the CIA. Electronic records are stored in secure file-servers located within the CIA.

Retrievability:

By name. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief, DAC, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

U.S. Government records; publicly available information from the media, libraries, and commercial databases; and Executive branch and Congressional officials and staff members, and members of the general public who send correspondence to, or receive correspondence from, the Office of the Director of Central Intelligence.

Exemptions claimed for the system:

Certain records contained within this system of records may be exempted from certain provisions of the Privacy Act (5 U.S.C. 552a) pursuant to 5 U.S.C. 552a(j)(1), (k), and (d)(5).

CIA-26

System name:

Office of General Counsel Records.

Security classification:

The classification of records in this system can range from UNCLASSIFIED to TOP SECRET.

System location:

Central Intelligence Agency, Washington, DC 20505.

Categories of individuals covered by the system:

Current and former CIA staff and contract employees, personal services independent contractors, employees of industrial contractors, military and civilian personnel detailed or assigned to the CIA; applicants for employment with the CIA; current and former employees and contractors of U.S. Government agencies; individuals in contact with the CIA, including individuals whose inquiries concerning the CIA or the Intelligence Community (IC) are forwarded to the Office of General Counsel for response; attorneys in private practice who hold CIA security clearances or access approvals; individuals in government, academia, the business community, or other elements of the private sector with expertise on matters of interest to the Office of General Counsel; and individuals who may be involved in matters which implicate the CIA's and/or the IC's legal authorities, responsibilities, and obligations, including but not limited to administrative claimants, grievants, parties in litigation, witnesses, targets or potential targets of investigations or intelligence collection, and individuals who are interviewed by, or provide information to the CIA or the IC.

Categories of records in the system:

Legal documents, including but not limited to pleadings, subpoenas, motions, affidavits, declarations, briefs, litigation reports, and legal opinions; biographic information for private attorneys, including Social Security Number, date and place of birth, education, law firm (if any), office addresses, fax and telephone numbers, bar memberships, legal specialties and/or areas of practice, names of CIA-affiliated clients, and date and type of security clearance and/or access approval pending or granted; crimes reports filed with the U.S. Department of Justice or other appropriate law enforcement agencies concerning individuals covered by this system of records; public and confidential Financial Disclosure Reports required by the Office of Government Ethics; internal CIA documents and cables concerning individuals covered by this system of records; and correspondence with members of the public, members of the U.S. Congress, Congressional staff, and federal, state, local, international and foreign agencies, courts and administrative tribunals.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; provide legal advice and representation to the Central Intelligence Agency and the Director of Central Intelligence; provide factual information necessary for the preparation of legal documents, including pleadings, subpoenas, motions, affidavits, declarations, briefs, legal opinions, litigation reports prepared for the Department of Justice, and reports to law enforcement agencies; provide a historical record of all private attorneys who have received security clearances and/or access approvals to receive and discuss U.S. Government information necessary to their representation of CIA-affiliated clients, and record the nature, scope and duration of private attorneys' legal representations of CIA-affiliated clients; and maintain a record of federal, state, local, international or foreign litigation, administrative claims, and other legal matters in which CIA is a party or has an interest.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name or other personal identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

General Counsel, Central Intelligence Agency, Washington, DC 20505

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system; publicly available information; CIA records; and federal, state and local government agencies and courts.

Exemptions claimed for the system:

Certain records contained within this system of records may be exempted from certain provisions of the Privacy Act (5 U.S.C. 552a) pursuant to 5 U.S.C. 552a(j)(1), (k), and (d)(5).

CIA-27

System name:

Office of Equal Employment Opportunity (OEEO) Records.

Security classification:

The classification of records in this system can range from UNCLASSIFIED to TOP SECRET.

System location:

Central Intelligence Agency, Washington, DC 20505.

Categories of individuals covered by the system:

Current and former CIA staff and contract employees, personal services independent contractors, industrial contractors, and military and civilian personnel detailed to the CIA; and applicants for employment with the CIA.

Categories of records in the system:

Documents relating to EEO complaints, including: Data collected by an EEO Investigator which bears on charges of discrimination brought by a complainant; sworn affidavits from the complainant, the alleged discriminating officer(s), and other individuals as appropriate; other documents or statistical evidence considered pertinent to the case which assists the CIA in making a decision; requests made by individuals or offices for reasonable accommodations, and the products or services provided in response to such requests; and information regarding individuals who apply for retirement on the basis of medical disabilities, and other individuals with medical disabilities.

Authority for maintenance of the system:

The National Security Act of 1947, as amended (50 U.S.C. 403 et seq.); the Central Intelligence Agency Act of 1949, as amended (50 U.S.C. 403a et seq.); Executive Order 12333 (46 FR 59941); Executive Order 11478, as amended by Executive Order 13097 (63 FR 30097) and Executive Order 13152 (65 FR 26115); Equal Employment Opportunity Act of 1972 (42 U.S.C. 2000e et seq.); Age Discrimination in Employment Act (29 U.S.C. 633a); the Rehabilitation Act of 1973, as amended (29 U.S.C. 701 et seq.).

Purpose(s):

Records in this system are used by authorized personnel to: Ensure process integrity; enable the CIA and the head of the CIA to carry out their lawful and authorized responsibilities; process EEO complaints; provide information for review by the Equal Employment Opportunity Commission; provide information for federal court review; track requests and provide reasonable accommodations through the provision of products and services to individuals who make requests for such accommodations; and track applications for retirement on the basis of medical disabilities.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name, social security number, or other CIA identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Director, Office of Equal Employment Opportunity, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system; applicants for employment with the CIA; individuals who provide information during the investigation of EEO complaints; and medical and psychiatric personnel.

Exemptions claimed for the system:

Certain records contained within this system of records may be exempted from certain provisions of the Privacy Act (5 U.S.C. 552a) pursuant to 5 U.S.C. 552a(j)(1), (k), and (d)(5).

CIA-28

System name:

Congressional Liaison Records.

Security classification:

The classification of records in this system can range from UNCLASSIFIED to TOP SECRET.

System location:

Central Intelligence Agency, Washington, DC 20505.

Categories of individuals covered by the system:

Current and former members of the U.S. Congress and Congressional staff; individuals whose inquiries relating to CIA matters are forwarded by members of the U.S. Congress or Congressional staff to CIA for response, and CIA employees wishing to contact members of Congress or Congressional staff on official matters.

Categories of records in the system:

Correspondence and other documents between CIA's Office of Congressional Affairs, members of Congress, Congressional staff, constituents, and other CIA offices and/or U.S. Government entities regarding inquiries made by constituents or others and sent to the CIA for response; and memoranda, correspondence, position papers and other documents used to support CIA's liaison with members of Congress, staff, and their offices and committees, including memoranda documenting substantive briefings and debriefings, as well as reports provided to the CIA by Congressional personnel.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; document constituent or other inquiries forwarded by members of Congress and staff to the CIA and CIA's responses to those inquiries; coordinate and prepare memoranda and position papers reflecting CIA's views on proposed legislation; facilitate Congressional briefings by maintaining a record of CIA's positions on issues of interest to particular members of Congress and staff; and provide guidance to employees on Congressional matters.

Routine uses of records maintained in the system, including categories of users and the purposes of such uses:

Records from this system may be disclosed to Congress. Information on additional routine uses is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Director of Congressional Affairs, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Current and former members of the U.S. Congress and their staffs; CIA employees; individuals whose inquiries relating to CIA matters are forwarded by members or staff of the U.S. Congress to the CIA for response.

Exemptions claimed for the system:

Certain records contained within this system of records may be exempted from certain provisions of the Privacy Act (5 U.S.C. 552a) pursuant to 5 U.S.C. 552a(j)(1), (k), and (d)(5).

CIA-29

System name:

Public Affairs Records.

Security classification:

The classification of records in this system can range from UNCLASSIFIED to TOP SECRET.

System location:

Central Intelligence Agency, Washington, DC 20505.

Categories of individuals covered by the system:

Members of the general public who have written to the CIA to inquire about CIA activities; CIA personnel who have reported media contacts; and media representatives.

Categories of records in the system:

Media coverage, including newspaper and magazine articles, which mentions the CIA; correspondence between media representatives and the Office of Public Affairs; memoranda of conversations between the Office of Public Affairs and media representatives; correspondence from the general public regarding CIA, and CIA responses; internal CIA memoranda concerning the subject matter of this records system; and names of CIA personnel who have reported contacts with media representatives.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; provide a record of significant media coverage of the CIA; provide a record of contact with media representatives by the Office of Public Affairs; maintain a record of correspondence between members of the general public who raise questions about CIA activities; and maintain a record of CIA personnel media contacts.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file servers located within the CIA.

Retrievability:

By name. Information may be retrieved from this system of records by automated or hand search based on extant indices and automated capabilities utilized in the normal course of business. Under applicable law and regulations, all searches of this system of records will be performed in CIA offices by CIA personnel.

Safeguards:

Records are stored in secured areas accessed only by authorized persons.

Retention and disposal:

All records are maintained and disposed of in accordance with Records Control Schedules approved by the National Archives and Records Administration.

System manager(s) and address (this incorporates by reference any CIA successor in function to the system manager(s) set forth herein):

Director of Public Affairs, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Publicly available information from the media, libraries and commercial databases; CIA records concerning CIA activities and the subject matter of media contacts; and individuals covered by this system of records.

Exemptions claimed for the system:

Certain records contained within this system of records may be exempted from certain provisions of the Privacy Act (5 U.S.C. 552a) pursuant to 5 U.S.C. 552a(j)(1), (k), and (d)(5).

CIA-30

System name:

Inspector General Research Records.

Security classification:

The classification of records in this system can range from UNCLASSIFIED to TOP SECRET.

System location:

Central Intelligence Agency, Washington, DC 20505.

Categories of individuals covered by the system:

CIA personnel; and other individuals whose names appear in documents assembled primarily from other CIA records systems by the Inspector General in relation to Executive branch commission and Congressional committee reviews conducted between 1972 and 1976 concerning Agency activities.

Categories of records in the system:

CIA documents that are pertinent to Executive branch commission and Congressional committee reviews of CIA activities.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; and for reference use in connection with Executive branch and Congressional committee reviews of CIA activities.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name, social security number, or other CIA identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Inspector General, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

CIA employees; CIA records; and records of Executive branch commissions and Congressional committees.

Exemptions claimed for the system:

Certain records contained within this system of records may be exempted from certain provisions of the Privacy Act (5 U.S.C. 552a) pursuant to 5 U.S.C. 552a(j)(1), (k), and (d)(5).

CIA-31

System name:

Inspector General Investigation and Interview Records.

Security classification:

The classification of records in this system can range from UNCLASSIFIED to TOP SECRET.

System location:

Central Intelligence Agency, Washington, DC 20505.

Categories of individuals covered by the system:

CIA staff and contract employees, personal services independent contractors, industrial contractors, persons with other contractual relationships, or other relationships with the CIA, persons who are interviewed by or provide information to the Office of the Inspector General, persons involved with or knowledgeable about matters being investigated by the Office of Inspector General, and persons who have filed grievances with the Office of Inspector General or CIA components.

Categories of records in the system:

Reports of interviews, signed statements, correspondence, reports of investigations, forms, cables, internal CIA memoranda, prior criminal records of individuals covered by the system, and other materials relating to employee grievances and other matters of interest to or inspected by the Office of Inspector General.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; and maintain a detailed record of the investigative activities of the CIA Office of Inspector General, including investigations of grievances, allegations of misconduct by CIA personnel; and to provide information to CIA management regarding personnel matters and to assist in the evaluation of current and proposed programs, policies and activities.

Routine uses of records maintained in the system, including categories of users and the purposes of such uses:

a. Records in this system are used and disclosed as necessary by members of the Office of Inspector General in the investigation of matters of interest or concern to the head of the CIA, Inspector General, and senior Agency officials, including grievances and allegations of misconduct by Agency employees, and to provide information to Agency management regarding personnel matters, and for evaluating current and proposed programs, policies and activities, selected assignments, and requests for awards or promotions.

b. Records in this system that indicate a violation or potential violation of law, whether civil, criminal or regulatory in nature, and whether arising by general statute or particular program, or by rule, regulation or order pursuant thereto, or that indicate a violation or potential violation of a contractual obligation, may be disclosed to the appropriate agency, whether federal, state, local, foreign, or international, charged with the responsibility for investigating or prosecuting such violation, enforcing or implementing such statute, rule, regulation, or order, or with enforcing such contract.

c. Records in the system may be disclosed to a federal, state, local, foreign, or international agency, or to an individual or organization, when necessary to elicit information relevant to an Office of Inspector General investigation, inquiry, decision, or recommendation.

d. Records in the system may be disclosed to a federal, state, local, foreign, or international agency when requested in connection with the assignment, hiring, or retention of an individual, the issuance or revocation of a security clearance, letting of a contract, or any authorized inquiry or investigation to the extent that the information is relevant to the requesting agency's decision on the matter.

e. Records in the system may be disclosed to any federal agency when documents, witness statements, or other information obtained from that agency are used in compiling the system record, or when the record is relevant to the official responsibilities of that agency.

f. Unclassified records in the system, or unclassified portions thereof, including information identifying individuals covered by the system, may be disclosed to the public when the matter under investigation has become public knowledge or the Inspector General determines that such disclosure is necessary to preserve confidence in the integrity of the Inspector General process, or is necessary to demonstrate the accountability of CIA employees, officers, or individuals covered by the system, unless it is determined that release of the specific information in the context of a particular case would constitute an unwarranted invasion of personal privacy.

g. Records in the system pertaining to an employee grievance may be disclosed to any party to that grievance except for records that disclose the identity of a non-party who requested confidentiality and provided a statement during the grievance process.

h. Records in the system may be disclosed in the course of presenting evidence to a court, magistrate, or administrative tribunal, including disclosures in the course of settlement negotiations, or pursuant to statutes or regulations governing the conduct of such proceedings.

i. Records in the system may be disclosed to representatives of the Department of Justice or of any other agency that is responsible for representing Agency interests in connection with judicial, administrative or other proceedings. Records may also be disclosed to the Department of Justice to the extent necessary to obtain its advice on any matter relevant to an Office of Inspector General investigation.

j. Records in the system may be disclosed to the Senate Select Committee on Intelligence and the House Permanent Select Committee on Intelligence, or other congressional committees, or the staffs thereof, in connection with their oversight and legislative functions.

k. Records in the system may be disclosed to the President's Foreign Intelligence Advisory Board, and the Intelligence Oversight Board, and any successor organizations, when requested by those entities, or when the Inspector General determines that disclosure will assist in the performance of their oversight functions.

Information on additional routine uses is set forth in the “CIA Statement of General Routine Uses,” which is incorporated herein by reference.

Disclosure to consumer reporting agencies:

None.

Policies and practices for storing, retrieving, accessing, retaining, and disposing of records in the system:

Storage:

Paper records are stored in secured areas within CIA facilities. Electronic records are stored in secure file-servers located within the CIA.

Retrievability:

By name, social security number, or other CIA identifier. Information may be retrieved from this system of records by automated or hand search based on extant indices, and by automated means utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Inspector General, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

CIA records; CIA staff and contract employees, personal services independent contractors, industrial contractors, and military and civilian detailees to CIA; federal, state, and local officials; foreign governments; private citizens, including U.S. citizens and foreign nationals.

Exemptions claimed for the system:

Certain records contained within this system of records may be exempted from certain provisions of the Privacy Act (5 U.S.C. 552a) pursuant to 5 U.S.C. 552a(j)(1), (k), and (d)(5).

CIA-32

System name:

Office of the Deputy Director of Central Intelligence (DDCI) for Community Management Records.

Security classification:

The classification of records in this system can range from UNCLASSIFIED to TOP SECRET.

System location:

Central Intelligence Agency, Washington, DC 20505.

Categories of individuals covered by the system:

Individuals who visit, contact, have employment, contractual, or other relationships with, or otherwise participate in the activities of, the Office of the DDCI for Community Management or the Intelligence Community; individuals who are of foreign intelligence, counterintelligence, or security interest to the Intelligence Community, including individuals identified as being involved in activities related to intelligence matters; and individuals in government, academia, the business community, or other elements of the private sector with expertise on matters of intelligence interest to the Office of the DDCI for Community Management, or other elements of the Intelligence Community.

Categories of records in the system:

Records in this system include: information relating to the management and oversight of intelligence requirements, analysis, reporting and operations, including acquisitions; biographic and other information about individuals of intelligence interest; information on individuals and events of interest to the Intelligence Community; information identifying source documents and their recipients; and biographic and other information, including security clearances, access approvals, and employment and training records, about individuals who visit, contact, have employment, contractual or other relationships with, or otherwise participate in, the activities of the Office of the DDCI for Community Management

Authority for maintenance of the system:

The National Security Act of 1947, as amended (50 U.S.C. 403 et seq.); the Central Intelligence Agency Act of 1949, as amended (50 U.S.C. 403a et seq.); Executive Order 12333 (46 FR 59941); Executive Order 12958 (76 FR 19825).

Purpose(s):

Records in this system are used by authorized personnel to: Ensure process integrity; enable the CIA and the Director of Central Intelligence to carry out their lawful and authorized responsibilities; provide classified and unclassified information to the Director of Central Intelligence, CIA and other appropriate Intelligence Community and U.S. Government officers, employees, detailees, or contractors for the conduct of authorized activities; and assist the Director of Central Intelligence with his Intelligence Community responsibilities, including resources management, program assessment and evaluation, policy formulation, and collection requirements management, and the protection of intelligence sources and methods.

Routine uses of records maintained in the system, including categories of users and the purposes of such uses:

Records from this system of records may be disclosed to U.S. Government organizations, personnel and contractors: in order to facilitate security, employment, or contractual decisions; and as necessary for the protection of intelligence sources and methods, intelligence oversight and management, and in support of intelligence operations, analysis and reporting. Additionally, records from this system are used to prepare periodic statistical reports for U.S. Government officials related to the control and dissemination of classified information. Information on additional routine uses is set forth in the “CIA Statement of General Routine Uses,” which is incorporated herein by reference.

Disclosure to consumer reporting agencies:

None.

Policies and practices for storing, retrieving, accessing, retaining, and disposing of records in the system:

Storage:

Paper and other hard-copy records are stored in a secured area located in premises controlled by the Director of Central Intelligence (DCI). Electronic records are stored in secure file-servers located in premises controlled by the DCI.

Retrievability:

By name, social security number, or other identifier. Information may be retrieved from this system of records by automated or hand search based on extant indices and automated capabilities utilized in the normal course of business.

Safeguards:

Records are stored in secured areas accessed only by authorized persons. Software access controls are also in place.

Retention and disposal:

All records are maintained and disposed of in accordance with Records Control Schedules approved by the National Archives and Records Administration.

System manager(s) and address:

Executive Director for Intelligence Community Affairs, Office of the DDCI for Community Management, c/o Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system; U.S. Government officers, employees, agencies, organizations and contractors; publicly available information from the media, libraries and commercial databases; unclassified reporting; classified intelligence reporting and source documents; investigative reports; and correspondence.

Exemptions claimed for the system:

Certain records contained within this system of records may be exempted from certain provisions of the Privacy Act (5 U.S.C. 552a) pursuant to 5 U.S.C. 552a(j)(1), (k), and (d)(5).

CIA-33

System name:

National Intelligence Council (NIC) Records.

Security classification:

The classification of records in this system can range from UNCLASSIFIED to TOP SECRET.

System location:

Central Intelligence Agency, Washington, DC 20505.

Categories of individuals covered by the system:

Individuals who have employment, detailee, liaison, or contractual relationships with the National Intelligence Council (NIC) or Intelligence Community agencies, including personal services independent contractors and industrial contractors; individuals in academia and the private sector with expertise on matters of intelligence interest to the NIC; and individuals who are of foreign intelligence, counterintelligence, or security interest to the NIC, including individuals identified as being involved in activities related to intelligence matters.

Categories of records in the system:

Records in this system include administrative and contact information; documents relating to intelligence requirements, analysis, reporting and operations; National Intelligence Council operational records; biographic information about individuals of intelligence interest; publicly-available information on individuals and events of interest to the NIC; other policy and operational data based on foreign intelligence, counterintelligence and security reporting.

Authority for maintenance of the system:

The National Security Act of 1947, as amended (50 U.S.C. 403 et seq.); the Central Intelligence Agency Act of 1949, as amended (50 U.S.C. 403a et seq.); Executive Order 12333 (46 FR 59941); Executive Order 12958 (76 FR 19825).

Purpose(s):

Records in this system are used by authorized personnel to: Ensure process integrity; enable the CIA and the Director of Central Intelligence to carry out their lawful and authorized responsibilities; provide classified and unclassified information within the CIA and to appropriate Intelligence Community and U.S. Government officials for the conduct of authorized activities; and assist the Director of Central Intelligence and the Intelligence Community by evaluating the adequacy of intelligence support to U.S. policymakers and other senior intelligence consumers.

Routine uses of records maintained in the system, including categories of users and the purposes of such uses:

Records from this system of records may be disclosed to other U.S. Government organizations in order to facilitate any security, employment, or contractual decisions. Records also may be disclosed to other U.S. Government organizations as necessary for the protection of intelligence sources and methods and in support of intelligence operations, analysis and reporting. Information on additional routine uses is set forth in the “CIA Statement of General Routine Uses,” which is incorporated herein by reference.

Disclosure to consumer reporting agencies:

None.

Policies and practices for storing, retrieving, accessing, retaining, and disposing of records in the system:

Storage:

Paper and other hard-copy records are stored in a secured area located in premises controlled by the Director of Central Intelligence (DCI). Electronic records are stored in secure file-servers located in premises controlled by the DCI.

Retrievability:

By name, social security number, or other identifier. Information may be retrieved from this system of records by automated or hand search based on extant indices and automated capabilities utilized in the normal course of business.

Safeguards:

Records are stored in secured areas accessed only by authorized persons. Software access controls are also in place.

Retention and disposal:

All records are maintained and disposed of in accordance with Records Control Schedules approved by the National Archives and Records Administration.

System manager(s) and address:

Chairman, National Intelligence Council, c/o Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals covered by this system; U.S. Government employees, agencies and organizations; publicly-available information from the media, libraries and commercial databases; classified reporting and intelligence source documents; and correspondence.

Exemptions claimed for the system:

Certain records contained within this system of records may be exempted from certain provisions of the Privacy Act (5 U.S.C. 552a) pursuant to 5 U.S.C. 552a(j)(1), (k), and (d)(5).

CIA-34

System name:

Arms Control Records.

Security classification:

The classification of records in this system can range from UNCLASSIFIED to TOP SECRET.

System location:

Central Intelligence Agency, Washington, DC 20505.

Categories of individuals covered by the system:

Individuals who have employment, detailee, liaison, or contractual relationships with the Center for Weapons Intelligence, Nonproliferation and Arms Control (WINPAC), including personal services independent contractors and industrial contractors; individuals who visit, contact, or otherwise participate in the activities of WINPAC.

Categories of records in the system:

Records in this system include administrative, biographic and contact information; publicly available information on events of interest to the arms control community; classified reporting on events of interest to the arms control community; documents identifying classified source documents and their recipients.

Authority for maintenance of the system:

The National Security Act of 1947, as amended (50 U.S.C. 403 et seq.); the Central Intelligence Agency Act of 1949, as amended (50 U.S.C. 403a et seq.); Executive Order 12333 (46 FR 59941); Executive Order 12958 (76 FR 19825).

Purpose(s):

Records in this system are used by authorized personnel to: Ensure process integrity, enable the CIA and the head of the CIA to carry out their lawful and authorized responsibilities; and provide classified and unclassified information to appropriate CIA and Intelligence Community officials for the conduct of authorized activities, including support to the negotiation and assessment of arms control agreements.

Routine uses of records maintained in the system, including categories of users and the purposes of such uses:

Records from this system of records may be disclosed to other U.S. Government organizations in order to facilitate any security, employment, or contractual decisions by those organizations. Records also may be disclosed to other U.S. Government organizations as necessary for the protection of intelligence sources and methods and in support of intelligence operations, analysis and reporting. Information on additional routine uses is set forth in the “CIA Statement of General Routine Uses,” which is incorporated herein by reference.

Disclosure to consumer reporting agencies:

None.

Policies and practices for storing, retrieving, accessing, retaining, and disposing of records in the system:

Storage:

Paper and other hard-copy records are stored in secured areas within premises controlled by the head of the CIA. Electronic records are stored in secure file-servers within premises controlled by the head of the CIA.

Retrievability:

By name, social security number, or other identifier. Information may be retrieved from this system of records by automated or hand search based on extant indices and automated capabilities utilized in the normal course of business.

Safeguards:

Records are stored in a secured areas accessed only by authorized persons. Software access controls are also in place.

Retention and disposal:

All records are maintained and disposed of in accordance with Records Control Schedules approved by the National Archives and Records Administration.

System manager(s) and address (this incorporates by reference any CIA successor in function to the system manager(s) set forth herein):

Director, WINPAC, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals who are the subject of records in this system; U.S. Government employees, agencies and organizations; publicly available information obtained from the media, libraries and commercial databases; unclassified and classified reporting and intelligence source documents; and correspondence.

Exemptions claimed for the system:

Certain records contained within this system of records may be exempted from certain provisions of the Privacy Act (5 U.S.C. 552a) pursuant to 5 U.S.C. 552a(j)(1), (k), and (d)(5).

CIA-35

System name:

Directorate of Science & Technology (DS&T) Private Sector Contact Information.

Security classification:

The classification of records in this system can range from UNCLASSIFIED to TOP SECRET.

System location:

Central Intelligence Agency, Washington, DC 20505.

Categories of individuals covered by the system:

Individuals in the private sector who work or have worked on CIA personal services or industrial contracts; individuals about which there is publicly-available information identifying a scientific, technical or related expertise of interest to CIA; and CIA staff and contract employees, and other individuals affiliated with CIA who work on CIA projects with private sector experts.

Categories of records in the system:

Biographic information, including areas of expertise.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; provide reference information; and facilitate communication by CIA with private sector experts.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name or other CIA identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Director, DS&T Administrative Resources Center, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals who are the subject of records in the system; and publicly available information obtained from the media, libraries and commercial databases.

Exemptions claimed for the system:

Certain records contained within this system of records may be exempted from certain provisions of the Privacy Act (5 U.S.C. 552a) pursuant to 5 U.S.C. 552a(j)(1), (k), and (d)(5).

CIA-36

System name:

Alumni Communications Records.

Security classification:

The classification of records in this system can range from UNCLASSIFIED to TOP SECRET.

System location:

Central Intelligence Agency, Washington, DC 20505.

Categories of individuals covered by the system:

Former CIA employees who voluntarily contact the Alumni Communications Port to offer comments, insights or suggestions.

Categories of records in the system:

Biographic data (including name, contact information such as address or phone number, and Social Security Number or CIA identifier); and correspondence and memoranda regarding the content of conversations with former employees and any resulting actions.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; verify the identities of individuals contacting the Port; continue communications with individuals who contact the Port; and record a summary of the conversations and any resulting actions.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in a secured area within the CIA. Electronic records are stored in secure file-servers located within the CIA.

Retrievability:

By name, social security number, or other CIA identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Director, DS&T Investment Program Office, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals who voluntarily contact the Alumni Communications Port; and CIA employees.

Exemptions claimed for the system:

Certain records contained within this system of records may be exempted from certain provisions of the Privacy Act (5 U.S.C. 552a) pursuant to 5 U.S.C. 552a(j)(1), (k), and (d)(5).

CIA-37

System name:

Directorate of Operations Records.

Security classification:

The classification of records in this system can range from UNCLASSIFIED to TOP SECRET.

System location:

Central Intelligence Agency, Washington, DC 20505.

Categories of individuals covered by the system:

Individuals who are of foreign intelligence or foreign counterintelligence interest to the CIA, either because of their actual, apparent, or potential association with foreign intelligence or foreign counterintelligence activities, or because they are of actual or potential use to the CIA.

Categories of records in the system:

Documents recording the operational activities of the Directorate of Operations (DO) of the Central Intelligence Agency.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity, enable the CIA and the head of the CIA to carry out their lawful and authorized responsibilities, and maintain a record of the operational activities of the Directorate of Operations of the Central Intelligence Agency.

Routine uses of records maintained in the system, including categories of users and the purposes of such uses:

Records from this system of records may be provided to selected federal agencies, including the Federal Bureau of Investigation, military departments and, through established liaison channels, to selected foreign government agencies, as necessary for the conduct of foreign intelligence and counterintelligence operations by the CIA and other U.S. Government entities authorized to conduct such operations. Information on additional routine uses is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name, social security number, or other identifier. Information may be retrieved from this system of records by automated or hand search based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Chief, DO Information Management Staff, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Foreign intelligence and counterintelligence sources; U.S. Government agencies; CIA predecessor organizations; publicly available information; and state and local agencies.

Exemptions claimed for the system:

Certain records contained within this system of records may be exempted from certain provisions of the Privacy Act (5 U.S.C. 552a) pursuant to 5 U.S.C. 552a(j)(1), (k), and (d)(5).

CIA-38

System name:

Academic and Business Contact Records.

Security classification:

The classification of records in this system can range from UNCLASSIFIED to TOP SECRET.

System location:

Central Intelligence Agency, Washington, DC 20505.

Categories of individuals covered by the system:

Members of the academic community, members of scientific and other professional organizations, U.S. Government officials, employees of private sector organizations, and other individuals who have expertise in, or access to information on, subjects of intelligence interest; and individuals who have served as, or are considered potential advisers, consultants, or personal services independent contractors to the CIA on matters of intelligence interest.

Categories of records in the system:

Biographic information including names, contact information, professional credentials and areas of interest and expertise of individuals covered under this system of records; history of CIA association, if any, of individuals covered under this system.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity, enable the CIA and the head of the CIA to carry out their lawful and authorized responsibilities, and maintain a record of persons inside and outside the U.S. Government of current or potential utility as advisors or consultants to the CIA in performing its mission to produce intelligence analyses on matters of national security concern.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored secured areas within the CIA. Electronic records are stored in secure file-servers located within the CIA.

Retrievability:

By name, social security number, or other CIA identifier. Information may be retrieved from this system of records by automated or hand searches based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Directorate of Intelligence Information Management Officer, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification procedures section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals who are the subject of records in this system; U.S. Government employees; publicly available information obtained from the media, libraries and commercial databases.

Exemptions claimed for the system:

Certain records contained within this system of records may be exempted from certain provisions of the Privacy Act (5 U.S.C. 552a) pursuant to 5 U.S.C. 552a(j)(1), (k), and (d)(5).

CIA-39

System name:

Customer Relations Records.

Security classification:

The classification of records in this system can range from UNCLASSIFIED to TOP SECRET.

System location:

Central Intelligence Agency, Washington, DC 20505.

Categories of individuals covered by the system:

Current and former intelligence customers including U.S. policymakers, U.S. Government personnel, and other authorized recipients of CIA intelligence products.

Categories of records in the system:

Biographic information including names, addresses, contact information, security clearances and access approvals, and subjects of intelligence interest to individuals covered by this system of records; documents containing comments and feedback from individuals covered by this system of records.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry out their lawful and authorized responsibilities; maintain dissemination lists for CIA finished intelligence products, in order to ensure proper dissemination of classified and unclassified products; maintain a record of disseminations; maintain a list of topics of interest to particular intelligence customers; and document customer feedback on particular products.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name, social security number, or other CIA identifier. Information may be retrieved from this system of records by automated or hand searches based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Directorate of Intelligence Information Management Officer, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

Individuals who are the subjects of records in this system; CIA personnel; other U.S. Government personnel.

Exemptions claimed for the system:

Certain records contained within this system of records may be exempted from certain provisions of the Privacy Act (5 U.S.C. 552a) pursuant to 5 U.S.C. 552a(j)(1), (k), and (d)(5).

CIA-40

System name:

Research System Records.

Security classification:

The classification of records in this system can range from UNCLASSIFIED to TOP SECRET.

System location:

Central Intelligence Agency, Washington, DC 20505.

Categories of individuals covered by the system:

Individuals of foreign intelligence or counterintelligence interest to the CIA, including individuals associated with international terrorism, international organized crime, or international narcotics trafficking activities; and individuals who have written on the general topic of intelligence.

Categories of records in the system:

Classified intelligence reporting, including reports from other U.S. Government agencies and foreign government information; and publicly available information from the media, libraries and commercial databases.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity; enable the CIA and the head of the CIA to carry our their lawful and authorized responsibilities; provide a repository of classified and unclassified information on topics of foreign intelligence and counterintelligence interest to the CIA; assist the CIA's Directorate of Intelligence to fulfill its mission of providing timely, accurate, and objective intelligence analysis on the full range of national security threats and foreign policy issues facing the United States; and provide a reference file for publicly available publications pertaining to intelligence.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name, social security number, or other CIA identifier. Information may be retrieved from this system of records by automated or hand searches based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Directorate of Intelligence Information Management Officer, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

CIA staff and contract employees, personal services independent contractors, and industrial contractors; U.S. Government agencies; publicly available information from the media, libraries and commercial databases; and foreign intelligence and counterintelligence sources.

Exemptions claimed for the system:

Certain records contained within this system of records may be exempted from certain provisions of the Privacy Act (5 U.S.C. 552a) pursuant to 5 U.S.C. 552a(j)(1), (k), and (d)(5).

CIA-41

System name:

Intelligence Analysis Records.

Security classification:

The classification of records in this system can range from UNCLASSIFIED to TOP SECRET.

System location:

Central Intelligence Agency, Washington, DC 20505.

Categories of individuals covered by the system:

Individuals of foreign intelligence or counterintelligence interest to the CIA, including individuals associated with international terrorism, international organized crime, or international narcotics trafficking activities.

Categories of records in the system:

Intelligence reports and other information that supports the analytic mission of the CIA's Directorate of Intelligence.

Authority for maintenance of the system:

The National Security Act of 1947, as amended (50 U.S.C. 403 et seq.); the Central Intelligence Agency Act of 1949, as amended (50 U.S.C. 403a et seq.); Executive Order 12333 (46 FR 59941).

Purpose(s):

Records in this system are used by authorized personnel to: Ensure process integrity, enable the CIA and the head of the CIA to carry our their lawful and authorized responsibilities; and assist the CIA's Directorate of Intelligence to fulfill its mission of providing timely, accurate, and objective intelligence analysis on the full range of national security threats and foreign policy issues facing the United States, including key foreign countries, regional conflicts, and issues that transcend national boundaries such as terrorism, weapons proliferation, and narcotics trafficking.

Routine uses of records maintained in the system, including categories of users and the purposes of such uses:

This information is set forth in the “CIA Statement of General Routine Uses,” which is incorporated herein by reference.

Disclosure to consumer reporting agencies:

None.

Policies and practices for storing, retrieving, accessing, retaining, and disposing of records in the system:

Storage:

Paper and other hard-copy records are stored in secured areas within the CIA. Electronic records are stored in secure file-servers located within the CIA.

Retrievability:

By name, social security number, or other identifier. Information may be retrieved from this system of records by automated or hand searches based on extant indices and automated capabilities utilized in the normal course of business. Under applicable law and regulations, all searches of this system of records will be performed in CIA offices by CIA personnel.

Safeguards:

Records are stored in secured areas accessed only by authorized persons. Software access controls are also in place.

Retention and disposal:

All records are maintained and disposed of in accordance with Records Control Schedules approved by the National Archives and Records Administration.

System manager(s) and address (this incorporates by reference any CIA successor in function to the system manager(s) set forth herein):

Directorate of Intelligence Information Management Officer, Central Intelligence Agency, Washington, DC 20505.

Notification procedure:

Individuals seeking to learn if this system of records contains information about them should direct their inquiries to: Information and Privacy Coordinator, Central Intelligence Agency, Washington, DC 20505. Identification requirements are specified in the CIA rules published in the Federal Register (32 CFR 1901.13). Individuals must comply with these rules.

Record access procedures:

Requests from individuals should be addressed as indicated in the notification section above. Regulations for access to individual records or for appealing an initial determination by CIA concerning the access to records are published in the Federal Register (32 CFR 1901.11-45).

Contesting record procedure:

Requests from individuals to correct or amend records should be addressed as indicated in the notification section above. CIA's regulations regarding requests for amendments to, or disputing the contents of individual records or for appealing an initial determination by CIA concerning these matters are published in the Federal Register (32 CFR 1901.21-23, 32 CFR 1901.42).

Record source categories:

CIA staff and contract employees, personal services independent contractors, and industrial contractors; U.S. Government agencies; publicly available information from the media, libraries and commercial databases; and foreign intelligence and counterintelligence sources.

Exemptions claimed for the system:

Certain records contained within this system of records may be exempted from certain provisions of the Privacy Act (5 U.S.C. 552a) pursuant to 5 U.S.C. 552a(j)(1), (k), and (d)(5).

[FR Doc. 05-10038 Filed 5-23-05; 8:45 am]

BILLING CODE 6310-02-P